DEPARTMENT OF COMMERCE

National Oceanic and Atmospheric Administration

Proposed Information Collection; Northwest Region Logbook Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 20, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Gary Rule, (503) 230-5424 or Gary.Rule@noaa.gov.

SUPPLEMENTARY INFORMATION:

I. Abstract

The National Marine Fisheries Service (NMFS), Northwest Region manages the U.S. groundfish fisheries of the Exclusive Economic Zone (EEZ) off Washington, Oregon, and California under the Pacific Coast Groundfish Fishery Management Plan (FMP). The Pacific Fishery Management Council prepared the FMP pursuant to the Magnuson-Stevens Fishery Conservation and Management Act. The regulations implementing the FMP are at 50 CFR part 660.

This collection contains certain reporting and recordkeeping requirements for vessels in the Pacific Coast Groundfish Fishery in the Exclusive Economic Zone off the states of Washington Oregon and California. These requirements affect fish processing vessels over 125 feet in length and catcher vessels that deliver their catch to motherships. The information collected is needed to monitor catch, effort, and production for fishery management purposes.

II. Method of Collection

Paper forms are used for most requirements. The paper forms are submitted by facsimile machine. Some vessels have chosen to compose an identical electronic form in Microsoft Excel which is accepted via e-mail.

III. Data

OMB Number: 0648-0271.

Form Number: None.

Type of Review: Regular submission.

Affected Public: Businesses or other for-profit organizations.

Estimated Number of Respondents: 56.

Estimated Time per Response: 13 minutes per day for a Daily Fishing and Cumulative Production Log (DFCPL) from a catcher vessel; 26 minutes per day for a DFCPL from a catcher-processor; 13 minutes per day for a Daily Report of Fish Received and Cumulative Production Log from a mothership; 4 minutes per day for a Weekly/Daily Production Report; 1 minute per day for a Product Transfer/Offloading Logbook; and 1 minute for a Start or Stop Notification Report.

Estimated Total Annual Burden Hours: 1,136.

Estimated Total Annual Cost to Public: $2,653.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 13, 2009.
Gwellnar Banks,
Management Analyst, Office of the Chief Information Officer.

[FR Doc. E9-11563 Filed 5-18-09; 8:45 am]

BILLING CODE 3510-22-P